DEPARTMENT OF TRANSPORTATION

Federal Aviation Administration

14 CFR Part 39

[Docket No. FAA-2011-0811; Directorate Identifier 2011-CE-026-AD; Amendment 39-16839; AD 2011-21-16]

RIN 2120-AA64

Airworthiness Directives; Diamond Aircraft Industries Powered Sailplanes

AGENCY: Federal Aviation Administration (FAA), Department of Transportation (DOT).

ACTION: Final rule.

SUMMARY: We are adopting a new airworthiness directive (AD) for Diamond Aircraft Industries Model H-36 “DIMONA” powered sailplanes. This AD results from mandatory continuing airworthiness information (MCAI) issued by an aviation authority of another country to identify and correct an unsafe condition on an aviation product. The MCAI describes the unsafe condition as:

A report has been received of a failed air brake control system torsion tube on a Diamond (formerly Hoffman) H 36 powered sailplane. The results of the subsequent investigation show that the failure was due to corrosion damage.

This condition, if not detected and corrected, may lead to failure of the air brake control system in flight, resulting in reduced control of the aeroplane.

We are issuing this AD to require actions to correct the unsafe condition on these products.

DATES: This AD is effective November 23, 2011.

The Director of the Federal Register approved the incorporation by reference of certain publications listed in the AD as of November 23, 2011.

ADDRESSES: You may examine the AD docket on the Internet at http://www.regulations.gov or in person at Document Management Facility, U.S. Department of Transportation, Docket Operations, M-30, West Building Ground Floor, Room W12-140, 1200 New Jersey Avenue, SE., Washington, DC 20590.

For service information identified in this AD, contact Diamond Aircraft Industries GmbH, N.A. Otto-Straße 5, A-2700 Wiener Neustadt, Austria, telephone: +43 2622 26700; fax: +43 2622 26780; e-mail: office@diamond-air.at; Internet: http://www.diamond-air.at. You may review copies of the referenced service information at the FAA, Small Airplane Directorate, 901 Locust, Kansas City, Missouri 64106. For information on the availability of this material at the FAA, call (816) 329-4148.

FOR FURTHER INFORMATION CONTACT: Jim Rutherford, Aerospace Engineer, FAA, Small Airplane Directorate, 901 Locust, Room 301, Kansas City, Missouri 64106; telephone: (816) 329-4165; fax: (816) 329-4090; e-mail: jim.rutherford@faa.gov.

SUPPLEMENTARY INFORMATION:

Discussion

We issued a notice of proposed rulemaking (NPRM) to amend 14 CFR part 39 to include an AD that would apply to the specified products. That NPRM was published in the Federal Register on August 8, 2011 (76 FR 48047). That NPRM proposed to correct an unsafe condition for the specified products. The MCAI states:

A report has been received of a failed air brake control system torsion tube on a Diamond (formerly Hoffman) H 36 powered sailplane. The results of the subsequent investigation show that the failure was due to corrosion damage.

This condition, if not detected and corrected, may lead to failure of the air brake control system in flight, resulting in reduced control of the aeroplane.

To address this unsafe condition, Diamond published Mandatory Service Bulletin (MSB) 36-105, containing instructions to test and inspect the air brake control system torsion tube for corrosion damage and, depending on findings, the application of anticorrosive agent to the inside of the torsion tube, or replacement of the torsion tube with a serviceable part.

For the reasons described above, this new AD requires repetitive tests and inspections of the air brake control system torsion tube and applicable corrective actions, depending on findings.

You may obtain further information by examining the MCAI in the AD docket.

Comments

We gave the public the opportunity to participate in developing this AD. We received no comments on the NPRM (76 FR 48047, August 8, 2011) or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 9 products of U.S. registry. We also estimate that it will take about 4.5 work-hours per product to comply with the basic requirements of this AD. The average labor rate is $85 per work-hour. Required parts will about $172 per product.

Based on these figures, we estimate the cost of this AD on U.S. operators to be $4,990.50, or $554.50 per product.

In addition, we estimate that any necessary follow-on actions will take about 5 work-hours and require parts costing $275, for a cost of $700 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM (76 FR 48047, August 8, 2011), the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-21-16 Diamond Aircraft Industries: Amendment 39-16839; Docket No. FAA-2011-0811; Directorate Identifier 2011-CE-026-AD.

(a) Effective Date

This airworthiness directive (AD) becomes effective November 23, 2011.

(b) Affected ADs

None.

(c) Applicability

This AD applies to Diamond Aircraft Industries Model H-36 “DIMONA” powered sailplanes, all serial numbers, certificated in any category.

(d) Subject

Air Transport Association of America (ATA) Code 27: Flight Controls.

(e) Reason

The mandatory continuing airworthiness information (MCAI) states:

A report has been received of a failed air brake control system torsion tube on a Diamond (formerly Hoffman) H 36 powered sailplane. The results of the subsequent investigation show that the failure was due to corrosion damage.

This condition, if not detected and corrected, may lead to failure of the air brake control system in flight, resulting in reduced control of the aeroplane.

To address this unsafe condition, Diamond published Mandatory Service Bulletin (MSB) 36-105, containing instructions to test and inspect the air brake control system torsion tube for corrosion damage and, depending on findings, the application of anticorrosive agent to the inside of the torsion tube, or replacement of the torsion tube with a serviceable part.

For the reasons described above, this new AD requires repetitive tests and inspections of the air brake control system torsion tube and applicable corrective actions, depending on findings.

(f) Actions and Compliance

Unless already done, do the following actions:

(1) Within the next 6 months after November 23, 2011 (the effective date of this AD), remove, test, and inspect the air brake control system torsion tube for corrosion damage following Diamond Aircraft Industries GmbH Work Instruction WI-MSB 36-105, dated April 21, 2011, as specified in Diamond Aircraft Industries GmbH Service Bulletin No. MSB 36-105/1, dated May 2, 2011.

(2) If corrosion damage is found during the inspection required in paragraph (f)(1) of this AD or during any repetitive inspection required in paragraphs (f)(2) and (f)(3) of this AD, before further flight after the inspection in which corrosion damage is found, replace the affected torsion tube with a serviceable part. Before installation, apply an anticorrosive agent to the inside of the torsion tube. Do these required actions following Diamond Aircraft Industries GmbH Work Instruction WI-MSB 36-105, dated April 21, 2011, as specified in Diamond Aircraft Industries GmbH Service Bulletin No. MSB 36-105/1, dated May 2, 2011. After replacement, repetitively thereafter at intervals not to exceed 60 months, remove, test, and inspect the newly installed air brake control system torsion tube for corrosion damage following the procedures specified in paragraph (f)(1) of this AD.

(3) If no corrosion damage is found during the inspection required in paragraph (f)(1) of this AD or during any repetitive inspection required in paragraphs (f)(2) and (f)(3) of this AD, before reinstalling the torsion tube, apply an anticorrosive agent to the inside of the torsion tube. Do these required actions following Diamond Aircraft Industries GmbH Work Instruction WI-MSB 36-105, dated April 21, 2011, as specified in Diamond Aircraft Industries GmbH Service Bulletin No. MSB 36-105/1, dated May 2, 2011. Repetitively thereafter at intervals not to exceed 60 months, remove, test, and inspect the air brake control system torsion tube for corrosion damage following the procedures specified in paragraph (f)(1) of this AD.

(4) As of November 23, 2011 (the effective date of this AD), do not install an air brake control system torsion tube on an affected sailplane unless it has been inspected following the procedures specified in paragraph (f)(1) of this AD, is found to be corrosion free, and an anticorrosive agent has been applied to the inside of the tube as specified in Diamond Aircraft Industries GmbH Work Instruction WI-MSB 36-105, dated April 21, 2011, as specified in Diamond Aircraft Industries GmbH Service Bulletin No. MSB 36-105/1, dated May 2, 2011.

Note 1: Credit will be given for the initial test and inspection required in paragraph (f)(1) of this AD and the corrective actions required in paragraphs (f)(2) and (f)(3) of this AD if already done before November 23, 2011 (the effective date of this AD) following Diamond Aircraft Industries GmbH Service Bulletin No. MSB 36-105, original issue.

(g) FAA AD Differences

Note 2: This AD differs from the MCAI and/or service information as follows: No differences.

(h) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any sailplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

(i) Related Information

Refer to MCAI European Aviation Safety Agency (EASA) AD No. 2011-0110, dated June 16, 2011; Diamond Aircraft Industries GmbH Service Bulletin No. MSB 36-105/1, dated May 2, 2011; and Diamond Aircraft Industries GmbH Work Instruction WI-MSB 36-105, dated April 21, 2011, for related information.

(j) Material Incorporated by Reference

(1) You must use the following service information to do the actions required by this AD, unless the AD specifies otherwise. The Director of the Federal Register approved the incorporation by reference (IBR) under 5 U.S.C. 552(a) and 1 CFR part 51 of the following service information on the date specified:

(2) Diamond Aircraft Industries GmbH Service Bulletin No. MSB 36-105/1, dated May 2, 2011; and Diamond Aircraft Industries GmbH Work Instruction WI-MSB 36-105, dated April 21, 2011, approved for IBR on November 23, 2011.

(3) For service information identified in this AD, contact Diamond Aircraft Industries GmbH, N.A. Otto-Straße 5, A-2700 Wiener Neustadt, Austria, telephone: +43 2622 26700; fax: +43 2622 26780; E-mail: office@diamond-air.at; Internet: http://www.diamond-air.at.

(4) You may review copies of the service information at the FAA, Small Airplane Directorate, 901 Locust, Kansas City, Missouri 64106. For information on the availability of this material at the FAA, call (816) 329-4148.

(5) You may also review copies of the service information that is incorporated by reference at the National Archives and Records Administration (NARA). For information on the availability of this material at an NARA facility, call 202-741-6030, or go to http://www.archives.gov/federal_register/code_of_federal_regulations/ibr_locations.html.

Issued in Kansas City, Missouri, on October 5, 2011.
Earl Lawrence,
Manager, Small Airplane Directorate, Aircraft Certification Service.

[FR Doc. 2011-26300 Filed 10-18-11; 8:45 am]

BILLING CODE 4910-13-P